DEPARTMENT OF TRANSPORTATION

Federal Aviation Administration

Notice of Intent to Rule on Application 05-10-C-00-MCO To Impose, Use the Revenue From, Impose and Use the Revenue From a Passenger Facility Charge (PFC) at Orlando International Airport, Orlando, FL.

AGENCY: Federal Aviation Administration (FAA), DOT.

ACTION: Notice of Intent to Rule on Application.

SUMMARY: The FAA proposes to rule and invites public comment on the application to impose, use the revenue from, impose and use the revenue from a PFC at Orlando International Airport under the provisions of the 49 U.S.C. 40117 and part 158 of the Federal Aviation Regulations (14 CFR part 158).

DATES: Comments must be received on or before May 18, 2005.

ADDRESSES: Comments on this application may be mailed or delivered in triplicate to the FAA at the following address: Orlando Airports District Office; 5950 Hazeltine National Drive, Suite 400; Orlando, Florida 32822

In addition, one copy of any comments submitted to the FAA must be mailed or delivered to Mr. C.W. Jennings of the Greater Orlando Aviation Authority at the following address: Greater Orlando Aviation Authority, Orlando International Airport, One Airport Boulevard, Orlando, Florida 32827-4399. Air carriers and foreign air carriers may submit copies of written comments previously provided to the Greater Orlando Aviation Authority under § 158.23 of part 158.

FOR FURTHER INFORMATION CONTACT: Mr. Vernon P. Rupinta, Program Manager, Orlando Airports District Office, 5950 Hazeltine National Drive, Suite 400, Orlando, Florida 32822, (407) 812-6331, Extension 124. The application may be reviewed in person at this same location.

SUPPLEMENTARY INFORMATION: The FAA proposes to rule and invites public comment on the application to impose the revenue from a PFC at Orlando International Airport and use at Orlando International Airport and Orlando Executive Airport under the provisions of the 49 U.S.C. 40117 and part 158 of the Federal Aviation Regulations (14 CFR part 158).

On March 29, 2005, the FAA determined that the application to impose, use the revenue from, impose and use the revenue from a PFC submitted by Greater Orlando Aviation Authority was substantially complete within the requirements of section 158.25 of part 158. The FAA will approve or disapprove the application, in whole or in part, no later than July 21, 2005.

The following is a brief overview of the application.

Proposed charge effective date: May 1, 2016.

Proposed charge expiration date: November 1, 2020.

Level of the proposed PFC: $3.00.

Total estimated PFC revenue: $232,818,000.

Brief description of proposed project(s): Runway 18L/18R Runway Safety Area (RSA), Improvements (MCO) (Design & Construction); East Airfield Modifications (MCO) (Design Only); West Airfield Taxiway Improvements (MCO) (Design Only); Airfield Pavement Rehabilitation (MCO) (Design & Construction); Implement Sound Insulation & Property Acquisition Program (MCO) (Design & Construction); High Mast Lighting Rehabilitation (MCO) (Design & Construction); Taxiways E & F Rehabilitation (MCO) (Design & Construction); Airsides 1 and 3 Rehabilitation (MCO) (Design & Construction); Airside Terminal 2 Expansion (MCO) (Design & Construction); Extension of Taxiways G1 and H2 (MCO) (Design & Construction); Airside 2 and 4 Ramp Rehabilitation (MCO) (Design & Construction); New Large Aircraft Modifications at West Airfield (MCO) (Design & Construction); Mitigation Management/Environmental Costs (MCO) (Design & Construction); Reimbursement of Mitigation Management/Environmental Costs (MCO); Airport Exit Road Improvements (MCO) (Design & Construction); Roadway Rehabilitation Project (MCO) (Design & Construction); Cargo Road Extension (MCO); Widening of South Access Road (MCO) (Design & Construction); Enplane/Deplane Drive Expansion Joints & Lighting Rehabilitation (MCO) (Design & Construction); Landside Terminal Emergency Electrical System Improvements (MCO) (Design & Construction); Security Improvement Program (MCO) (Design & Construction); Explosion Detection System (EDS) Implementation (MCO) (Design & Construction); Terminal Improvement Program (MCO) (Design & Construction); Reimbursement of Airfield Improvement Projects (ORL); Airfield Lighting and Drainage Improvements (ORL) (Design & Construction); NAVAID Improvements (ORL) (Design & Construction); East and West Quadrant Ramp Improvements (ORL) (Design & Construction)

Class or classes of air carriers which the public agency has requested not be required to collect PFCs: Not applicable

Any person may inspect the application in person at the FAA office listed above under FOR FURTHER INFORMATION CONTACT.

In addition, any person may, upon request, inspect the application, notice and other documents germane to the application in person at the Greater Orlando Aviation Authority.

Dated: Issued in Orlando, Florida, on April 7, 2005.
W. Dean Stringer,
Manager, Orlando Airport District Office Southern Region.

[FR Doc. 05-7632 Filed 4-15-05; 8:45 am]

BILLING CODE 4910-13-M